NUCLEAR REGULATORY COMMISSION

Sunshine Act Meeting

AGENCY HOLDING THE MEETING: Nuclear Regulatory Commission.

DATE: Weeks of March 12, 19, 26, April 2, 9, 16, 2001.

PLACE: Commissioners' Conference Room, 11555 Rockville Pike, Rockville, Maryland.

STATUS: Public and Closed.

MATTERS TO BE CONSIDERED:

Week of March 12, 2001

Monday, March 12, 2001

1:25 p.m.

Affirmation Session (Public Meeting) (If needed)

1:30 p.m.

Discussion of Management Issues (Closed-Ex. 2)

Week of March 19, 2001—Tentative

Thursday, March 22, 2001

10:25 a.m.

Affirmation Session (Public Meeting) (If needed)

10:30 a.m.

Meeting with Advisory Committee on Nuclear Waste (ACNW) (Public Meeting) (Contact: John Larkins, 301-415-7360)

This meeting will be webcast live at the Web address— www.nrc.gov/live.html.

Week of March 26, 2001—Tentative

There are no meetings scheduled for the Week of March 26, 2001.

Week of April 2, 2001—Tentative

There are no meetings scheduled for the Week of April 2, 2001.

Week of April 9, 2001—Tentative

Monday, April 9, 2001

1:30 p.m.

Briefing on 10 CFR Part 71 Rulemaking (Public Meeting) (Contacts: Naiem Tanious, 301-415-6103; David Pstrak, 301-415-8486)

Tuesday, April 10, 2001

10:25 a.m.

Affirmation Session (Public Meeting) (If needed)

10:30 a.m.

Meeting on Rulemaking and Guidance Development for Uranium Recovery Industry (Public Meeting) (Contact: Michael Layton, 301-415-6676)

Week of April 16, 2001—Tentative

There are no meetings scheduled for the Week of April 16, 2001.

The schedule for Commission meetings is subject to change on short notice. To verify the status of meetings call (recording)—(301) 415-1292.

Contact person for more information: David Louis Gamberoni (301) 415-1651.

ADDITIONAL INFORMATION: By a vote of 5-0 on March 5 and 6, the Commission determined pursuant to U.S.C. 552b(e) and § 9.107(a) of the Commission's rules that “Affirmation of Consolidated Edison Co. of New York and Entergy Companies. Transfer of Licenses for Indian Point 1 & 2 Nuclear Plants. Petitions to Intervene; Request for Suspension of Proceeding; Requests for Access to Confidential Documents and for Additional Time to Submit Issues” be held on March 6, and one less than on week's notice to the public.

The NRC Commission Meeting Schedule can be found on the Internet at: http://www.nrc.gov/SECY/smi/schedule.htm.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: March 8, 2001.
David Louis Gamberoni,
Technical Coordinator, Office of the Secretary.

[FR Doc. 01-6301 Filed 3-9-01; 11:01 am]

BILLING CODE 7590-01-M